DEPARTMENT OF HEALTH AND HUMAN SERVICES

Request for Information on Prescription Medication Adherence

AGENCY: Department of Health and Human Services, Office of the Secretary, Office of the Assistant Secretary for Health, Office of the Surgeon General of the United States Public Health Service.

ACTION: Request for information.

SUMMARY: The Office of the Assistant Secretary for Health is seeking information about causes, impact and potential solutions associated with the public health problem of prescription medication non-adherence in adults with chronic conditions. The purpose of this notice is to provide individuals and organizations with the opportunity to identify issues relevant to all levels of government, as well as individuals, health care providers, and industry and private organizations in efforts to improve medication adherence in adults with chronic conditions. Comments that provide input on and evidence from interventions that improve adherence are particularly encouraged.

Comments must be in writing and should not exceed 500 words. All comments will receive careful consideration. However, persons and organizations submitting comments will not receive individual responses.

DATES: Individuals and organizations interested in providing information must submit their comments on or before May 7, 2012. Comments received after this date will not be considered.

ADDRESSES: Department of Health and Human Services, Office of the Surgeon General, Room 710-H, 200 Independence Ave., SW., Washington, DC 20201. Comments may also be sent via email to medadhere@hhs.gov.

FOR FURTHER INFORMATION CONTACT: Dawn Alley, Ph.D., Office of the Surgeon General, by telephone (202-205-9491) or email (Dawn.Alley@hhs.gov).

SUPPLEMENTARY INFORMATION: Many different factors can contribute to poor medication adherence, including copayments, difficulty remembering and managing complex regimens, and poor health literacy. Solutions to this problem will need to involve both the health-care community and patients. This request for information is intended to solicit comments on both barriers to medication adherence and strategies for overcoming those barriers to improve public health.

Dated: March 29, 2012.
Boris Lushniak,
Deputy Surgeon General.

[FR Doc. 2012-8179 Filed 4-4-12; 8:45 am]

BILLING CODE 4150-49-P